DEPARTMENT OF ENERGY

Federal Energy Regulatory Commission

[Project No. 2009-030]

Virginia Electric & Power Company dba Dominion Virginia Power/ Dominion North Carolina Power; Notice of Technical Conference

June 9, 2004.

Take notice that a technical conference will be held to discuss the proposed revisions to license articles submitted by the licensee on rehearing for the Gaston-Roanoke Rapids Project.

This conference will be held on June 16, 2004, beginning at 10:30 a.m. (e.s.t.), and on June 17, 2004, if necessary, in Hearing Room 4, at the Federal Energy Regulatory Commission, 888 First Street, NE., Washington, DC 20426.

Attendance at the conference is limited to Commission staff and existing parties as of March 31, 2004, the issuance date of the license order. There will be no transcript of the conference. For more information about the conference, please contact Elizabeth Molloy, at 202-502-8771, or Elizabeth.molloy@ferc.gov.

Linda Mitry,
Acting Secretary.

[FR Doc. E4-1359 Filed 6-17-04; 8:45 am]

BILLING CODE 6717-01-P